NATIONAL TRANSPORTATION SAFETY BOARD

Sunshine Act; Meeting

Time and Place: 9:30 a.m., Thursday, March 23, 2006.

Place: NTSB Conference Center, 429 L'Enfant Plaza SW., Washington, DC 20594.

Status: The one item is open to the public.

Matter to be Considered: 7680B, Railroad Accident Report—Collision Between Two Washington Metropolitan Area Transit Authority Trains at the Woodley Park-Zoo/Adams Morgan Station in Washington, DC, November 3, 2004.

News Media Contact: Telephone: (202) 314-6100.

Individuals requesting specific accommodations should contact Chris Bisett at (202) 314-6305 by Friday, March 17, 2006.

The public may view the meeting via a live or archived Webcast by accessing a link under “News & Events” on the NTSB home page at http://www.ntsb.gov.

FOR MORE INFORMATION CONTACT: Vicky D'Onofrio, (202) 314-6410.

Dated: March 9, 2006.
Vicky D'Onofrio,
Federal Register Liaison Officer.

[FR Doc. 06-2514 Filed 3-10-06; 2:05 pm]

BILLING CODE 7533-01-M